DEPARTMENT OF ENERGY

Federal Energy Regulatory Commission

Noxious Plant Workshop, Michigan; Notice of Intent To Conduct Public Workshop on Noxious Plants

May 20, 2005.

On June 7, 2005, the Commission staff will host a public workshop on noxious plants, such as purple loosestrife and Eurasian water milfoil. The main objectives of the workshop are: (1) To gain an understanding of noxious plants and how they affect the management of reservoir resources at hydropower projects; (2) to discuss hydro project requirements and different monitoring methods and schedules; and (3) to exchange information and improve coordination between licensees of hydropower projects, federal and state agencies, and technical experts on effective noxious plant control and eradication methods.

The workshop will be held on June 7, 2005, at the Woldumar Nature Center located at 5739 Old Lansing Road, Lansing, MI 48917, from 9 a.m. till 5 p.m. (EST). All parties interested in this issue are invited to attend and participate.

Any questions about this notice should be directed to the workshop coordinator, CarLisa M. Linton, at the Federal Energy Regulatory Commission, (202) 502-8416 or carlisa.linton-peters@ferc.gov.

Linda Mitry,
Deputy Secretary.

[FR Doc. E5-2662 Filed 5-25-05; 8:45 am]

BILLING CODE 6717-01-P